DEPARTMENT OF TRANSPORTATION

Federal Railroad Administration

Petition for Waiver of Compliance

In accordance with part 211 of title 49 Code of Federal Regulations (CFR), notice is hereby given that the Federal Railroad Administration (FRA) has received a request for a waiver of compliance from certain requirements of its safety standards. The individual petition is described below, including the party seeking relief, the regulatory provisions involved, the nature of the relief being requested, and the petitioner's arguments in favor of relief.

Steam Railroading Institute

[Docket Number FRA-2009-0060]

The Michigan State Trust for Railway Preservation, Inc. (MSTRP), d/b/a Steam Railroading Institute (SRI) petitioned FRA for relief from the requirements of 49 CFR 223.15 Existing passenger cars and § 223.13 Existing cabooses for 5 passenger cars and 2 cabooses. Specifically, passenger cars MSTX 5576, 5581, 5646, and 762 were built by the Canadian Car and Foundry Company in 1954. Car number 2624 was built by the Pullman Car Company in 1950. Cabooses AA 2838 and AA 2839 were built in 1952. Since FRA's long-standing definition of “antiquated” is being built prior to the end of World War II, even though this equipment is used in tourist/excursion/educational service, relief from the Federal safety glazing requirements is required.

A caboose listed in the petition, number PM A909, was built in 1937, thus considered by FRA to be antiquated, but over 50 years of age from original construction. A Special Approval for continued use of this over-age caboose will be considered under a separate proceeding.

MSTRP primarily operates this equipment in steam and diesel locomotive powered excursion service on the entire trackage of the Great Lakes Central (GLC) and shared trackage utilized by GLC, the Ann Arbor Railroad and Canadian National Railroad. MSTRP has previously and in the future intends to operate (or lease to operators) this equipment in excursion service on the trackage of the Rail America subsidiaries Huron and Eastern Railway, Mid-Michigan Railroad, and Saginaw Valley Railway. In addition, occasional operations have previously taken place on the Lake State Railway and Saginaw Bay Southern.

The above referenced passenger cars and cabooses have occasionally been leased for excursion service purposes to similar organizations in the Midwest region of the United States, and are proposed for lease in the future. In all instances, the excursions operate through rural and wooded areas. The coaches are used at speeds up to and including 45 mph, and the cabooses 30 mph. There have been no reported incidents of stoning or acts of vandalism against the excursion trains since the start of operations, and the cars are stored inside a protected facility when not in use.

MSTRP is a non-profit educational organization incorporated under Section 501(c)(3) of the Internal Revenue Code. The main source of income for the organization is the operation of steam and diesel locomotive powered excursion trains. The above referenced equipment is heavily relied upon to fund the continued operations. MSTRP believes that bringing the passenger and caboose cars' glazing into compliance would impose a severe financial hardship considering the intermittent usage of the equipment in excursion service. Further, MSTRP believes that they could not generate enough revenue to justify this expense.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number FRA-2009-0060) and may be submitted by any of the following methods:

• Web site: http://www.regulations.gov. Follow the online instructions for submitting comments.

• Fax: 202-493-2251.

• Mail: Docket Operations Facility, U.S. Department of Transportation, 1200 New Jersey Avenue, SE., W12-140, Washington, DC 20590.

• Hand Delivery: 1200 New Jersey Avenue, SE., Room W12-140, Washington, DC 20590, between 9 a.m. and 5 p.m., Monday through Friday, except Federal holidays.

Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://www.regulations.gov.

Anyone is able to search the electronic form of any written communications and comments received into any of our dockets by the name of the individual submitting the document (or signing the document, if submitted on behalf of an association, business, labor union, etc.). You may review DOT's complete Privacy Act Statement in the Federal Register published on April 11, 2000 (65 FR 19477) or at http://www.dot.gov/privacy.html.

Issued in Washington, DC on May 6, 2010.
Grady C. Cothen, Jr.,
Deputy Associate Administrator for Safety Standards and Program Development.

[FR Doc. 2010-11212 Filed 5-11-10; 8:45 am]

BILLING CODE 4910-06-P